DEPARTMENT OF COMMERCE

National Oceanic and Atmospheric Administration

50 CFR Part 679

[Docket No. 090313314-4317-01]

RIN 0648-AX78

Fisheries of the Exclusive Economic Zone Off Alaska; Modifications to Federal Fisheries Permits and Federal Processor Permits

AGENCY: National Marine Fisheries Service (NMFS), National Oceanic and Atmospheric Administration (NOAA), Commerce.

ACTION: Proposed rule; request for comments.

SUMMARY: NMFS proposes to change criteria for submission, approval, surrender, revision, and receipt of a Federal Fisheries Permit (FFP) or Federal Processor Permit (FPP) application form; allow the use of a valid legible copy in place of an original FFP or FPP; remove unnecessary FFP and FPP application form descriptions and contact information from regulation; clarify when an FFP or FPP is required; and make minor modifications to FPP regulations. This action is necessary to reduce industry costs of complying with fishing and processing permit regulations and NMFS' administrative costs of maintaining and updating permit application regulations and forms. This action would provide efficiency, flexibility, and clarity concerning FFP and FPP requirements. This action is intended to promote the goals and objectives of the Magnuson-Stevens Fishery Conservation and Management Act (Magnuson-Stevens Act), the FMP, and other applicable laws.

DATES: Comments must be received no later than May 19, 2014.

ADDRESSES: You may submit comments, identified by FDMS Docket Number NOAA-NMFS-2009-0075, by any of the following methods:

• Electronic Submissions: Submit all electronic public comments via the Federal eRulemaking Portal. Go to www.regulations.gov/#!docketDetail;D=NOAA-NMFS-2009-0075, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Comments sent by any other method, to any other address or individual, or received after the end of the comment period, may not be considered by NMFS. All comments received are a part of the public record and will generally be posted for public viewing on http://www.regulations.gov without change. All Personal Identifying Information (e.g., name, address, etc.), confidential business information, or otherwise sensitive information submitted voluntarily by the sender will be publicly accessible. NMFS will accept anonymous comments (enter“N/A” in the required fields, if you wish to remain anonymous). Attachments to electronic comments will be accepted in Microsoft Word, Excel, or Adobe PDF file formats only.

Electronic copies of the Categorical Exclusion and the Regulatory Impact Review/Initial Regulatory Flexibility Analysis (RIR/IRFA) prepared for this action may be obtained from http://www.regulations.gov or from the NMFS Alaska Region Web site at http://alaskafisheries.noaa.gov. The final 2010 Stock Assessment and Fishery Evaluation (SAFE) report for the groundfish resources of the GOA, dated November 2010, is available from the North Pacific Fishery Management Council (Council) at 605 West 4th Avenue, Suite 306, Anchorage, AK 99501, phone (907) 271-2809, or from the Council's Web site at http://alaskafisheries.noaa.gov/npfmc. The draft 2011 SAFE report for the GOA is available from the same source.

Written comments regarding the burden-hour estimates or other aspects of the collection-of-information requirements contained in this rule may be submitted to NMFS Alaska Region at the above address and by email to OIRA_Submission@omb.eop.gov or fax to 202-395-7285.

FOR FURTHER INFORMATION CONTACT: Patsy A. Bearden, 907-586-7228.

SUPPLEMENTARY INFORMATION: NMFS Alaska Region manages the U.S. groundfish fisheries in the Exclusive Economic Zone (EEZ) off Alaska under the Fishery Management Plan for Groundfish of the Bering Sea and Aleutian Islands Management Area and the Fishery Management Plan for Groundfish of the Gulf of Alaska, respectively. The fishery management plans were prepared by the North Pacific Fishery Management Council, under authority of the Magnuson-Stevens Fishery Conservation and Management Act, 16 U.S.C. 1801 et seq. (Magnuson-Stevens Act) and other applicable laws, and approved by the Secretary of Commerce. Regulations implementing the fishery management plans appear at 50 CFR part 679. General regulations that pertain to U.S. fisheries appear at subpart H of 50 CFR part 600.

Regulations at § 679.4 describe particular groundfish and halibut fishing permits that are necessary to participate in federally-managed North Pacific fisheries and available from NMFS Alaska Region (NMFS); regulations at § 679.7 describe regulatory prohibitions that are applicable in federally-managed North Pacific fisheries.

The Federal Fisheries Permit (FFP) is issued by NMFS Alaska Region and is required for vessels that are used to fish for groundfish in the GOA or BSAI or engage in any fishery that requires retention of groundfish, such as the commercial IFQ halibut fishery. These vessels include catcher vessels, catcher/processors, motherships, tender vessels (buying stations), and support vessels assisting other vessels in those fisheries.

The Federal Processor Permit (FPP) is issued by NMFS Alaska Region and is required for shoreside processors, stationary floating processors (SFPs) (processing vessels that operate solely within Alaska State waters), and for Community Quota Entity (CQE) floating processors that receive or process unprocessed groundfish harvested in the GOA or BSAI.

This proposed action will reduce costs associated with NMFS' issuance of FFPs and FPPs. This action proposes to relieve FFP and FPP holders from requirements that they hold original permit copies. The proposed revisions to NMFS regulations would benefit fisheries participants by reducing the time, expense, and administrative effort associated with submitting permit requests to NMFS. Similarly, the revisions would benefit NMFS by reducing preparation and postage costs associated with returning an FFP or FPP to the permit applicant and by removing unnecessary regulatory text. In addition, the proposed regulatory revisions would allow NMFS to easily update the permit application form, eliminating costly delays associated with rulemaking.

There are six elements of this proposed action: (1) Eliminate the requirement to submit an original permit when surrendering the permit to NMFS or applying for a permit revision and add a proof of permit application submission standard; (2) allow the use of a valid legible copy in place of an original FFP or FPP; (3) remove unnecessary FFP and FPP application form requirements from regulation to eliminate redundant reporting requirements; (4) clarify the circumstances when an FFP or FPP must be held by fishery participants; (5) make minor clarifications to FPP regulations; and (6) make other corrections and revisions to regulatory text. These actions will reduce costs associated with the FFP or FPP application processes.

Action 1: Eliminate the Requirements To Submit an Original Permit and Add a Proof of Application Submission Standard

Section 679.4(a)(9) governs surrender of permits issued by NMFS Alaska Region. This action would divide paragraph (a)(9) into two subparagraphs and would add two new subparagraphs. New paragraph (b)(3)(i)(D) would state that the application form can be used to request surrender of permits. Newly redesignated paragraph (a)(9)(ii) would be revised to eliminate the unnecessary requirement for the FFP holder or FPP holder to submit the original permit when surrendering a permit to NMFS. Instead of mailing back the original permit, a permit holder would notify NMFS of intent to surrender an FFP or FPP by submitting a completed FFP or FPP application form (see http://www.alaskafisheries.noaa.gov).

Under the proposed rule, when a surrender application form is submitted NMFS would withdraw the FFP or FPP from active status in the permit database. The surrendered FFP or FPP would be “inactive,” which means that it is not valid until it is re-issued with an “active” status. The inactive permit could be re-issued as active upon request. If the vessel or processing plant was sold after the permit was surrendered, then the permit would be re-issued to the current owner.

In many instances, regulations impose filing deadlines when a permit application form must be received by NMFS. In some circumstances, persons have unsuccessfully filed application forms with Restricted Access Management (RAM), the Region's permit division, due to missing a deadline. To ensure that application forms or documents reach RAM and are processed within filing deadlines, NMFS proposes a “proof of receipt” standard that must be met by applicants. Thus, redesignated paragraphs (a)(9)(iii) and (iv) would add a standard that requires applicants to have “objective written evidence” they would use to prove that an application form was received by NMFS. “Objective written evidence” would include, for example, the applicant's use of United States Post Office Priority mail delivery confirmation, or “green card” return receipt requested.

Action 2: Allowing the Use of a Legible Copy in Place of an Original FFP or FPP

Currently, NMFS mails an original paper FFP or FPP to successful applicants, who must have the original permit in possession either on board the vessel or on site at the processing facility when activities authorized by the permit, such as groundfish harvests and landings, are taking place. In some circumstances, the requirement to possess the original permit on board the vessel or at the processing plant can impose costs on permit holders. For example, if a vessel applies for an amended FFP designating a change or addition of a vessel operations category or any other endorsement, a new, revised original of the FFP must be on board the vessel before the new type of operation can begin. The vessel would encounter a delay from fishing or processing while the original permit is mailed to NMFS and another delay while the new, original permit is mailed to the vessel.

To address problems associated with the requirement to possess the original permit at all times when permitted activities are taking place, this action would (1) allow the permit holder to possess a legible copy of a valid permit in lieu of the original when and where permitted activities are taking place; (2) remove the requirement that a permit holder must submit the original permit to NMFS when surrendering the permit; and (3) remove the requirement that a permit holder must submit the original permit to NMFS when applying for a permit revision.

This rulemaking would revise § 679.4(b) and (f) and § 679.7 to allow a legible copy of a valid FFP or FPP to be maintained on board the vessel or on site at the facility, instead of the original permit. NMFS has determined that a legible copy is sufficient evidence that the vessel has the FFP or the plant has the FPP. This regulatory change would greatly simplify operations for permit holders and allow operations to commence or continue in short-term fisheries when FFPs or FPPs are revised. By changing this regulation, a permit holder may submit a permit revision application by fax and receive a revised permit by fax that can serve as a valid legible copy of the original permit. If a permit holder were required to wait to receive the original permit via mail, there may be costly delays before operations may resume.

These proposed changes will not hamper enforcement. NMFS is able to determine if a particular person holds the necessary permit without the presence of an original permit. Specifically, NMFS staff process and complete issuance of FFPs and FPPs daily, and the original permit is mailed to the permit holder unless another method is requested. The current NMFS Web site listing of permits is updated daily to include the newly issued, revised, and surrendered permit information. This information is available for enforcement and compliance monitoring purposes to the United States Coast Guard boarding officers, NOAA Office of Law Enforcement personnel, and State of Alaska Enforcement personnel. Currently, enforcement officials use this listing to verify that a permit is current.

Action 3: Remove Unnecessary FFP and FPP Application Requirements From Regulation

This action would remove text from § 679.4(b) and § 679.4(f) that describes each data field in an FFP or FPP application form, specific instructions for completion of the application form, and specific address and contact information. NMFS has determined that it is unnecessary to specify this information in regulatory text because each FFP or FPP application form adequately specifies that information. For example, each application form contains complete instructions for submission, whether requesting an initial permit, amending a permit, or surrendering a permit.

Although NMFS proposes to remove a substantial amount of unnecessary regulatory text, this rulemaking would add text to require that each FFP or FPP application form be completed with all information specified on the form, that all necessary documentation be attached, and that the application form be signed. This measure would enhance compliance with application form instructions and completion. The FFP and FPP applications are available on the NMFS Alaska Region Web site at http://alaskafisheries.noaa.gov/ram.

Detailed application information, along with the FFP and FPP application forms that are required in regulations, are included in Paperwork Reduction Act (PRA) collections-of-information that are available to the general public on the NOAA PRA Web site (http://www.cio.noaa.gov/Policy_Programs/pra.html). The PRA collections-of-information for the FFP and FPP application forms are described in OMB Control No. 0648-0206. The proposed action would allow NMFS to make minor revisions by changing the application form itself and describing the changes in the PRA analysis. Currently, to make even a minor change to the application form can, in some instances, require a change in the regulations. In those instances, NMFS must go through the process of proposed and final rulemaking, which can take several months or even years depending on rulemaking priorities. In addition, removal text describing that an applicant must provide name, address, and other contact information on the form, from the regulations may possibly reduce inconsistencies that may occur if submission or contact information on the application differs from that specified in the regulatory text.

Moreover, removal of specific permit application information requirements from the regulatory text would simplify and reduce the number of pages in the Code of Federal Regulations, the official government regulations publication. Fewer pages would reduce future costs of publication of regulations.

Action 4: Clarify the Circumstances Where an FFP Must Be Obtained and Held

Pursuant to § 679.4(b), the FFP is issued by NMFS and is required for vessels used to fish for groundfish in the GOA or BSAI, or that are required to retain any groundfish. These vessels include catcher vessels, catcher/processors, motherships, tender vessels (buying stations), and support vessels assisting other vessels in those fisheries.

Section 679.4(b) would be amended to further clarify the circumstances under which a vessel owner or authorized representative must obtain an FFP. Paragraphs (b)(1) and (b)(2) would be combined and revised. The term “to fish” would be replaced with “to retain.” The term “that fishes” would be replaced with “engage in any fishery . . . that requires retention.” The non-groundfish fisheries previously listed individually would be removed because the term “non-groundfish fisheries” incorporates all species that are not defined as groundfish. Next, regulatory text would be revised to state that retention of any groundfish by a vessel in the GOA or BSAI requires a legible copy of a valid FFP (instead of an original FFP) on board at all times.

The proposed regulatory changes simplify and clarify the circumstances when a vessel must carry an FFP. These amendments would require reorganization of subparagraph (b). Paragraphs (b)(1) and (b)(2) would be combined as (b)(1) to describe circumstances where a person must obtain and hold an FFP. Paragraphs (b)(3) and (b)(4) would be redesignated as paragraphs (b)(2) and (b)(3), respectively. NMFS would redesignate paragraph (b)(7), which states that a change or addition of a vessel operations category or any other endorsement on an FFP requires that an amended FFP must be on board the vessel before the new type of operation begins, as (b)(3)(iii)(D). Paragraph (b)(5)(vi)(B), which states that selections for species endorsements will remain valid until an FFP is amended, surrendered, or revoked, would be redesignated as (b)(3)(iii)(E). A new paragraph (b)(4) would be added to describe submission of the FFP application but would not specify the form's contents for the reasons explained above. Paragraph (b)(5), which sets-out the contents of the FFP application, would be removed. Paragraph (b)(6), which describes issuance of an FFP, would be redesignated as new (b)(5) and revised. Paragraph (b)(8), which states that an FFP is not transferable or assignable, would be redesignated as (b)(6). Paragraphs (b)(9)(i) and (b)(9)(ii) would be combined (with heading, Inspection), redesignated as (b)(7), and amended to state that a legible copy of a valid FFP (instead of an original FFP) must be on board the vessel and that this copy must be presented for inspection upon request.

Action 5: Minor Clarifications to FPP Regulations

The FPP is issued by NMFS and is required for shoreside processors, SFPs (processing vessels that operate solely within Alaska State waters), and for CQE floating processors, each of whom receives and processes groundfish harvested in the GOA or BSAI. NMFS is proposing changes that would provide regulatory clarity to ensure that all processing is adequately monitored.

Section 679.4(f) describes the FPP requirements and NMFS proposes several changes to these requirements. First, NMFS would revise paragraph (f)(1) to add particular processor activities that must be conducted with an FPP that are missing from existing text. An owner of a shoreside processor, SFP, or CQE floating processor must hold an FPP in order to purchase or arrange to purchase groundfish in addition to the requirement to hold it when receiving or processing groundfish. In many cases, persons neither receive nor process groundfish, but they do purchase groundfish or make purchase arrangements for others. Thus, NMFS proposes that paragraph (f)(1) be revised by replacing “receive or process groundfish” with “receive, process, purchase, or arrange to purchase unprocessed groundfish.”

Paragraph 679.4(f)(1) would be revised:

• By adding text stating that a processor may not be operated in a category other than as specified on the FPP. The processor categories are: Shoreside Processor, SFP, and CQE Floating Processor.

• By replacing “stationary floating processor” with “SFP” and by replacing an incorrect cross-reference to paragraph (f)(2) with § 679.2.

Paragraph (f)(1) states that the FPP is issued without charge and paragraph (f)(2)(i) states that the FPP is not considered complete until all fees are paid. The fees in question are observer fees; if the required observer fees are not paid, the FPP will not be issued.

Paragraph (f)(2) would be revised:

• By replacing “amend or renew an FFP” with “amend, renew, or surrender an FPP.” This amendment would capture all of the functions that may be accomplished by submitting an FPP application.

• By adding a heading “Fees” to newly redesignated (f)(2)(i) and then adding language to (f)(2)(i) identifying who is subject to the observer fee as specified at § 679.55(c).

Paragraph (f)(3) would be removed because it is unnecessary text. This paragraph states that a complete application will result in issuance of an FPP.

Paragraph (f)(4) would be redesignated as (f)(3). Newly redesignated paragraph (f)(3)(ii)(A) would be revised by removing the third sentence, which is the NMFS/RAM contact information. New paragraph (f)(3)(ii)(B) would be added to state that an owner or authorized representative must submit an FPP application when surrendering an FPP.

Newly redesignated paragraph (f)(3)(iii) would be redesignated as paragraph (f)(3)(iii)(A). Requirements from the FPP application would be codified and added as new paragraphs. Paragraph (f)(3)(iii)(B) would be added to describe the requirements of an SFP holding a GOA inshore processing endorsement on the FPP. Paragraph (f)(3)(iii)(C) would be added to describe the requirements of a vessel holding a CQE floating processor endorsement on the FPP.

Action 6: Other Corrections and Revisions

Other corrections and revisions would be made to standardize, simplify, and clarify regulatory text. Specifically, this rulemaking would:

• Replace the incorrect spelling of “onboard” with “on board” and would replace the incorrect spelling of “onsite” with “on site.” This rulemaking would remove “Federal Fisheries Permit” and replace it with “FFP.” In addition, this rulemaking would remove “Federal Processor Permit” and replace it with “FPP.”

• Highlight three general permit requirements at § 679.4(a) by adding descriptive headings to paragraphs (a)(3)(i) through (iii).

• Revise paragraph (a)(3)(iii) by removing the requirement to retain a copy of each permit application. This requirement was originally intended to protect the applicant when sending the original FFP or FPP to NMFS to obtain an amended permit. A copy of the application could be used to verify that a participant had a permit, if boarded by enforcement officials, when the original was sent to NMFS to amend the permit. Currently, NMFS maintains a permit data base on the NMFS Web site for use by enforcement officials to check on the validity of any permit. Thus, the copy retention requirement is unnecessary.

• The term “card” would be removed from paragraph (a)(5) because NMFS no longer issues permit cards.

• Paragraph (a)(6) would be revised by replacing “permitted processors” with “permitted harvesters and processors” because NMFS maintains a list of permitted harvesters as well as processors on the NMFS Alaska Region Web site at http://alaskafisheries.noaa.gov. The list of processors is useful for harvesters to identify who can legally accept their fish. As for the harvesters, this list is used as a resource by the USCG and Office of Law Enforcement who do not always have access to the NMFS database to check valid permits, but often have Internet access through smart phones or laptops. Posting the list of valid FFPs (harvesters) makes it easy for these law enforcement personnel to validate that vessel is currently permitted. Additionally, it is possible for processors to ascertain that they are accepting fish caught in Federal waters from a permitted vessel.

• Regulations currently specify that detailed contact information—name, address, telephone and fax numbers—must be provided in several PRA-approved forms. NMFS has determined that because the forms themselves request the information and provide instructions, regulatory text is unnecessary. Thus, NMFS proposes to remove the detailed contact information from the following paragraphs:

Paragraph Identification | Which describes surrender of . . . .
Redesignated § 679.4(b)(4)(ii)(A) | An FFP.
§ 679.4(d)(1)(iii) | An IFQ Permit.
§ 679.4(d)(2)(iv) | An IFQ Hired Master Permit.
§ 679.4(d)(3)(vi) | A Registered Buyer Permit.
§ 679.4(e)(2) | A Halibut CDQ permit.
§ 679.4(e)(3) | A Halibut CDQ Hired Master Permit.
Redesignated § 679.4(f)(3)(ii)(A) | An FPP.
§ 679.4(g)(1)(ii) | A Scallop LLP license.
§ 679.4(k)(6)(x) | A Groundfish or Crab LLP.
§ 679.4(l)(5)(ii) | An AFA Inshore Processor Permit.

• In paragraph (b)(3)(iii)(A), the cross reference “(b)(4)(iii)(B)” would be replaced with “(b)(3)(iii)(B).”

Classification

Pursuant to section 305(d) of the Magnuson-Stevens Act, the NMFS Assistant Administrator has determined that this proposed rule is consistent with the BSAI FMP, the GOA FMP, other provisions of the Magnuson-Stevens Act, and other applicable law, subject to further consideration after public comment.

This proposed rule has been determined to be not significant for purposes of Executive Order 12866.

A regulatory impact review (RIR) was prepared for this action that assesses all costs and benefits of available regulatory alternatives. The RIR describes the potential size, distribution, and magnitude of the economic impacts that this action may be expected to have. The RIR finds that this action has a positive net social impact since it reduces the administrative burden and cost to groundfish fishing operations of compliance with FFP regulatory requirements. This action does not create additional administrative costs and does not impose new requirements, nor does it modify existing requirements, on fishing operations.

An initial regulatory flexibility analysis (IRFA) was prepared, as required by section 603 of the Regulatory Flexibility Act (RFA). The IRFA describes the economic impact this proposed rule, if adopted, would have on small entities. A description of the action, why it is being considered, and the legal basis for this action are contained in the Background and Need for Action section and in the SUMMARY section of the preamble. A summary of the analysis follows. A copy of this analysis is available from NMFS (see ADDRESSES).

The SBA has established size criteria for all major industry sectors in the United States, including fish harvesting and fish processing businesses. Effective July 22, 2013, a business involved in finfish or shellfish harvesting is a small business if it is independently owned and operated and not dominant in its field of operation (including its affiliates), and if it has combined annual receipts not in excess of $19.0 million for all its affiliated operations worldwide in the case of a finfish business, and $5.0 million in the case of a shellfish business. A seafood processor is a small business if it is independently owned and operated, not dominant in its field of operation (including its affiliates) and employs 500 or fewer persons, on a full-time, part-time, temporary, or other basis, at all its affiliated operations worldwide. A business involved in both the harvesting and processing of finfish products is a small business if it meets the $19 million criterion for finfish harvesting operations or of $5 million for shellfish harvesting operations. A wholesale business servicing the fishing industry is a small business if it employs 100 or fewer persons on a full-time, part-time, temporary, or other basis, at all its affiliated operations worldwide.

Because this action directly regulates entities carrying groundfish FFPs, the finfish standard of $19 million was used to estimate the numbers of large and small catcher vessels and catcher/processors. The categories for support and tender vessels, motherships, shoreside floating processors, and shoreside processors, have been evaluated with respect to the 500 person employment processing standard and by affiliations with firms meeting that standard. For all categories, the number of small entities may be larger if there are relevant affiliations (e.g., joint ownership, contractual agreements) between firms of which NMFS is unaware. The numbers of directly regulated small entities and presented in the table below.

Class of entity | Total number of entities | Number of small entities | Notes on methods used to estimate the number of small entities
Catcher vessels | 931 | 814 | Groundfish catcher vessels (CVs). The number of small entities has been estimated by counting the number of vessels with annual gross revenues under $19 million, from all fishing sources off of Alaska and the U.S. Pacific West Coast, and by accounting for cooperative, and some corporate, affiliations. Analysis is based on 2012 data. The 814 small catcher vessel entities had median gross revenues of about $293,000.
Catcher/ processors | 78 | 10 | Groundfish catcher/processors (CPs). In 2012, there were 88 groundfish CPs with FFPs. Only 10 of these were small entities after taking account of vessel gross revenues, cooperative, and some corporate, affiliations. These ten vessels had median gross revenues of about $1.8 million.
Fishing vessels without groundfish revenues | 185 | 151 | 185 vessels carried Groundfish FFPs, but did not have groundfish revenue in 2012. Groundfish fishing activity is required to classify these as catcher/processors or catcher vessels. These vessels did, however, have non-groundfish fishing revenues. 151 were small (using the finfish revenue standard, as this action pertains to the direct regulation of groundfish FFPs) after taking account of vessel gross revenues, cooperative, and some corporate, affiliations. These small vessels had median gross revenues from all fishing sources of about $54,000.
Support and Tender Vessels (without fishing revenues) | 26 | 24 | In 2012, 171 vessels carried FFPs endorsed for support or tender operations. Of these, 45 did not have fishing revenues. Vessels with fishing revenues have been covered under the categories above. NMFS estimates that these vessels were owned by 26 separate business entities, of which 2 were large on the basis of identifiable affiliation with large processing companies.
Motherships | 2 | 0 | AFA pollock motherships (MS). In recent years, there have been three AFA pollock motherships, with ownership apparently divided between two firms. These are considered to be large entities, due to their affiliations with large processing firms.
Shoreside floating processors | 6 | 4 | Groundfish shoreside floating processors (SFPs): In 2012, 13 vessels carried FPPs to operate as SFPs. Based on a staff review of the primary owners, NMFS estimates that these were owned by six firms, four of which were small.
Groundfish shoreside processors | 66 | 60 | Groundfish shoreside processors. In 2012, 99 plants carried FPPs. Based on a staff review of the primary owners, NMFS estimates that these were owned by 66 separate firms, 60 of which were small.

The preferred alternative for this action accomplishes the objectives of the action, and relieves recordkeeping and reporting requirements on small entities; this alternative has no adverse impacts on any directly regulated small entities. This action will provide greater efficiency, flexibility, and clarity to fishing and processing operations concerning FFP and FPP requirements. The FFP is the basic vessel permit for groundfish in the EEZ off Alaska; other vessel permits may be required in addition to the FFP. The FPP is the basic shoreside permit for groundfish receiving fish harvested in the EEZ off Alaska. If NMFS did not issue the FFP and FPP, the entire Alaska permitting system would fail. It would not be possible to carry out the mandates of the Magnuson-Stevens Act and other laws if approval to continue these previously approved collections were to be denied.

The revised processes would address FFP and FPP application submission, approval, surrender, revision, and receipt, as well as use of these permits. The revisions would benefit the fisheries participants by reducing the time, expense, and administrative effort associated with submitting permit requests to NMFS. Instead of an original FFP or FPP, a current, legible copy of an FFP or FPP would be acceptable when fishing and/or processing groundfish. Instead of returning an original FFP or FPP to NMFS to revise or to surrender a permit, an application would notify NMFS of the requested change. Regulations regarding the FFP and FPP would be clarified, including who needs to have an FFP or FPP. The removal of detailed FFP and FPP application requirements and contact information from regulations would reduce the industry costs of complying with permitting regulations and would reduce NMFS' administrative costs of maintaining and updating applications.

No other alternatives were considered/analyzed because there is no alternative that accomplishes the objectives of this proposed rule and places a smaller burden on directly regulated small entities. This proposed action would not impose adverse economic impacts on small entities, as defined by the Regulatory Flexibility Act (RFA).

The analysis revealed no Federal rules that would conflict with, overlap, or be duplicated by the alternatives under consideration.

This regulation does not impose new recordkeeping and reporting requirements on the regulated small entities. The professional skills necessary to prepare the reporting and recordkeeping requirements under this proposed rule include the ability to read, write, and understand English; the ability to use a computer and the Internet; and the authority to take actions on behalf of an entity.

Collection-of-Information Requirements

This rulemaking contains collection-of-information requirements subject to the Paperwork Reduction Act (PRA) and which have been approved by the Office of Management and Budget (OMB) under OMB control number 0648-0206. Public reporting burden is estimated to average per response: 21 minutes for Application for Federal fisheries permit (FFP) and 21 minutes for Application for Federal processor permit (FPP).

These estimates include the time for reviewing instructions, searching existing data sources, gathering and maintaining the data needed, and completing and reviewing the collection-of-information.

Send comments regarding this burden estimate, or any other aspect of this data collection, including suggestions for reducing the burden, to NMFS (see ADDRESSES) and by email to OIRA_Submission@omb.eop.gov, or fax to 202-395-7285.

Notwithstanding any other provision of the law, no person is required to respond to, nor shall any person be subject to a penalty for failure to comply with, a collection of information subject to the requirements of the PRA, unless that collection of information displays a currently valid OMB control number.

List of Subjects in 50 CFR Part 679

Alaska, Fisheries, Recordkeeping and reporting requirements.

Dated: April 10, 2014.
Samuel D. Rauch III,
Deputy Assistant Administrator for Regulatory Programs, National Marine Fisheries Service.

For the reasons set out in the preamble, 50 CFR part 679 is proposed to be amended as follows:

PART 679—FISHERIES OF THE EXCLUSIVE ECONOMIC ZONE OFF ALASKA

1. The authority citation for part 679 continues to read as follows:

Authority: 16 U.S.C. 773 et seq.; 1801 et seq.; 3631 et seq.; Pub. L. 108-447.

2. In § 679.4,

a. Remove paragraphs (b)(2), (5), and (7); and (f)(3);

b. Redesignate paragraphs (b)(3) and (b)(4) as (b)(2) and (b)(3), respectively; (b)(6) as (b)(5); (b)(8) and (b)(9) as (b)(6) and (b)(7), respectively; (f)(4) through (f)(6) as (f)(3) through (f)(5), respectively;

c. Revise paragraphs (a)(3)(iii); (a)(6); (a)(9); (b)(1); (d)(1)(iii); (d)(2)(iv); (d)(3)(vi); (e)(2) and(3); (f)(1) and (2); (g)(1)(ii); (k)(6)(x); and (l)(5)(ii);

d. Revise newly redesignated paragraphs (b)(2); (b)(3)(ii)(A), (B), and (C); (b)(3)(iii)(A); (b)(5), (6), and (7); (f)(3)(ii) and (iii); and (f)(4) and (5);

d. Add paragraph headings for paragraphs (a)(3)(i) and (ii); and

e. Add paragraphs (b)(3)(ii)(D); (b)(3)(iii)(D) and (E); and (b)(4).

The revisions and additions read as follows:

§ 679.4 Permits.

(a) * * *

(3) * * *

(i) Obtain and submit an application. * * *

(ii) Deficient application. * * *

(iii) Separate permit. The operator, manager, Registered Buyer, or Registered Crab Receiver must obtain a separate permit for each applicant, facility, or vessel, as appropriate to each Federal permit in this section.

* * * * *

(6) Disclosure. NMFS will maintain a list of permitted harvesters and processors that may be disclosed for public inspection.

* * * * *

(9) Permit surrender. (i) The Regional Administrator will recognize the voluntary surrender of a permit issued in this section, if a permit may be surrendered and if it is submitted by the person named on the permit, owner of record, or authorized representative.

(ii) Submit the original permit, except for an FFP or an FPP, to NMFS, P.O. Box 21668, Juneau, AK 99802. For surrender of an FFP and FPP, respectively, refer to paragraphs (b)(3)(ii) and (f)(3)(ii) of this section.

(iii) Objective written evidence is considered proof of a timely application. The responsibility remains with the sender to prove when the application form to amend or to surrender a permit was received by NMFS (i.e., by certified mail or other method that provides written evidence that NMFS Alaska Region received it).

(iv) For application forms delivered by hand delivery or carrier only, the receiving date of signature by NMFS staff is the date the application form was received. If the application form is submitted by fax or mail, the receiving date of the application form is the date stamped received by NMFS.

(b) * * *

(1) Requirements. (i) No vessel of the United States may be used to retain groundfish in the GOA or BSAI or engage in any fishery in the GOA or BSAI that requires retention of groundfish, unless the owner or authorized representative first obtains an FFP for the vessel, issued under this part. An FFP is issued without charge.

(ii) Each vessel within the GOA or BSAI that retains groundfish must have a legible copy of a valid FFP on board at all times.

(2) Vessel operations categories. An FFP authorizes a vessel owner or authorized representative to deploy a vessel to conduct operations in the GOA or BSAI under the following categories: Catcher vessel, catcher/processor, mothership, tender vessel, or support vessel. A vessel may not be operated in a category other than as specified on the FFP, except that a catcher vessel, catcher/processor, mothership, or tender vessel may be operated as a support vessel.

(3) * * *

(ii) * * *

(A) An FFP may be voluntarily surrendered in accordance with paragraph (a)(9) of this section. Except as provided under paragraphs (b)(3)(ii)(B) and (C) of this section, if surrendered, an FFP may be reissued in the same fishing year in which it was surrendered.

(B) For the BSAI, NMFS will not reissue a surrendered FFP to the owner or authorized representative of a vessel named on an FFP that has been issued with the following combination of endorsements: Catcher/processor vessel operation type, pot and/or hook-and-line gear type, and the BSAI area, until after the expiration date of the surrendered FFP.

(C) For the GOA, NMFS will not reissue a surrendered FFP to the owner or authorized representative of a vessel named on an FFP that has been issued a GOA area endorsement and any combination of endorsements for catcher/processor operation type, catcher vessel operation type, trawl gear type, hook-and-line gear type, pot gear type, and/or jig gear type until after the expiration date of the surrendered FFP.

(D) An owner or authorized representative, who applied for and received an FFP, must notify NMFS of the intention to surrender the FFP by submitting an FFP application found at the NMFS Web site at http://www.alaskafisheries.noaa.gov and indicating on the application that surrender of the permit is requested. Upon receipt and processing of an FFP surrender application, NMFS will withdraw the FFP from active status in the FFP data bases.

(iii) * * *

(A) An owner or authorized representative who applied for and received an FFP, must notify NMFS of any change in the permit information by submitting an FFP application found at the NMFS Web site at http://alaskafisheries.noaa.gov. The owner or authorized representative must submit the application form as instructed on the form. Except as provided under paragraphs (b)(3)(iii)(B) and (C) of this section, upon receipt and approval of an application form for permit amendment, NMFS will issue an amended FFP.

* * * * *

(D) If the application for an amended FFP required under this section designates a change or addition of a vessel operations category or any other endorsement, a legible copy of the valid, amended FFP must be on board the vessel before the new type of operation begins.

(E) Selections for species endorsements will remain valid until an FFP is amended to remove those endorsements or the FFP with these endorsements is surrendered or revoked.

(4) Submittal of application. NMFS will process a request for an FFP provided that the application form contains the information specified on the form, with all required fields accurately completed and all required documentation attached. This application form must be submitted to NMFS using the methods described on the form. The vessel owner must sign and date the application form certifying that all information is true, correct, and complete. If the owner is not an individual, the authorized representative must sign and date the application form. An application form for an FFP will be provided by NMFS or is available from NMFS Alaska Region Web site at http://alaskafisheries.noaa.gov. The acceptable submittal methods will be described on the application form.

(5) Issuance. (i) Except as provided in subpart D of 15 CFR part 904, upon receipt of a properly completed permit application, the Regional Administrator will issue an FFP required by this paragraph (b).

(ii) The Regional Administrator will send an FFP with the appropriate logbooks to the owner or authorized representative, as provided under § 679.5.

(iii) NMFS will reissue an FFP to the owner or authorized representative who holds an FFP issued for a vessel if that vessel is subject to sideboard provisions as described under § 679.82(d) through (f).

(iv) NMFS will reissue an FFP to the owner or authorized representative who holds an FFP issued to an Amendment 80 vessel.

(6) Transfer. An FFP issued under this paragraph (b) is not transferable or assignable and is valid only for the vessel for which it is issued.

(7) Inspection. A legible copy of a valid FFP issued under this paragraph (b) must be carried on board the vessel at all times operations are conducted under this type of permit and must be presented for inspection upon the request of any authorized officer.

* * * * *

(d) * * *

(1) * * *

(iii) An IFQ permit may be voluntarily surrendered in accordance with paragraph (a)(9) of this section. An annual IFQ permit will not be reissued in the same fishing year in which it was surrendered, but a new annual IFQ permit may be issued to the quota share holder of record in a subsequent fishing year.

(2) * * *

(iv) An IFQ hired master permit may be voluntarily surrendered in accordance with paragraph (a)(9) of this section. An IFQ hired master permit may be reissued to the permit holder of record in the same fishing year in which it was surrendered.

(3) * * *

(vi) A Registered Buyer permit may be voluntarily surrendered in accordance with paragraph (a)(9) of this section. A Registered Buyer permit may be reissued to the permit holder of record in the same fishing year in which it was surrendered.

* * * * *

(e) * * *

(2) Halibut CDQ permit. The CDQ group must obtain a halibut CDQ permit issued by the Regional Administrator. The vessel operator must have a legible copy of a halibut CDQ permit on any fishing vessel operated by, or for, a CDQ group that will have halibut CDQ on board and must make the permit available for inspection by an authorized officer. A halibut CDQ permit is non-transferable and is issued annually until revoked, suspended, surrendered, or modified. A halibut CDQ permit may be voluntarily surrendered in accordance with paragraph (a)(9) of this section. A halibut CDQ permit will not be reissued in the same fishing year in which it was surrendered, but a new annual halibut CDQ permit may be issued in a subsequent fishing year to the CDQ group entitled to a CDQ halibut allocation.

(3) An individual must have on board the vessel a legible copy of his or her halibut CDQ hired master permit issued by the Regional Administrator while harvesting and landing any CDQ halibut. Each halibut CDQ hired master permit will identify a CDQ permit number and the individual authorized by the CDQ group to land halibut for debit against the CDQ group's halibut CDQ. A halibut CDQ hired master permit may be voluntarily surrendered in accordance with paragraph (a)(9) of this section. A halibut CDQ hired master permit may be reissued to the permit holder of record in the same fishing year in which it was surrendered.

* * * * *

(f) * * *

(1) Requirement. No shoreside processor of the United States, SFP, or CQE floating processor defined at § 679.2 may receive, process, purchase, or arrange to purchase unprocessed groundfish harvested in the GOA or BSAI, unless the owner or authorized representative first obtains an FPP issued under this part. A processor may not be operated in a category other than as specified on the FPP. An FPP is issued without charge.

(2) FPP application. To obtain, amend, renew, or surrender an FPP, the owner or authorized representative must complete an FPP application form per the instructions at http://alaskafisheries.noaa.gov.

(i) Fees. For the FPP application to be considered complete, all fees due to NMFS from the owner or authorized representative of a shoreside processor or SFP or person named on a Registered Buyer permit subject to the observer fee as specified at § 679.55(c) at the time of application must be paid.

(ii) Signature. The owner or authorized representative of the shoreside processor, SFP, or CQE floating processor must sign and date the application form, certifying that all information is true, correct, and complete to the best of his/her knowledge and belief. If the application form is completed by an authorized representative, proof of authorization must accompany the application form.

(3) * * *

(ii) Surrendered permit. (A) An FPP may be voluntarily surrendered in accordance with paragraph (a)(9) of this section. An FPP may be reissued to the permit holder of record in the same fishing year in which it was surrendered.

(B) An owner or authorized representative, who applied for and received an FPP, must notify NMFS of the intention to surrender the FPP by submitting an FPP application form found at the NMFS Web site at http://alaskafisheries.noaa.gov and indicating on the application form that surrender of the FPP is requested. Upon receipt and processing of an FPP surrender application form, NMFS will withdraw the FPP from active status in permit data bases.

(iii) Amended permit—(A) Requirement. An owner or authorized representative, who applied for and received an FPP, must notify NMFS of any change in the permit information by submitting an FPP application form found at the NMFS Web site at http://alaskafisheries.noaa.gov. The owner or authorized representative must submit the application form as instructed on the form. Upon receipt and approval of an FPP amendment application form, NMFS will issue an amended FPP.

(B) GOA Inshore Processing endorsement. A GOA inshore processing endorsement is required in order to process GOA inshore pollock and Eastern GOA inshore Pacific cod. If an SFP owner or authorized representative holds an FPP with a GOA Inshore Processing endorsement, the SFP is prohibited from processing GOA pollock and GOA Pacific cod in more than one single geographic location during a fishing year and is also prohibited from operating as a catcher/processor in the BSAI. Once issued, a GOA Inshore Processing endorsement cannot be surrendered for the duration of a fishing year.

(C) CQE Floating Processor endorsement. If a vessel owner or authorized representative holds an FPP with a GOA Inshore Processing endorsement in order to process Pacific cod within the marine municipal boundaries of CQE communities in the Western or Central GOA, the vessel must not meet the definition of an SFP and must not have harvested groundfish off Alaska in the same calendar year. Vessels are prohibited from holding both a GOA CQE Floating Processor endorsement and a GOA SFP endorsement during the same calendar year.

(4) Transfer. An FPP issued under this paragraph (f) is not transferable or assignable and is valid only for the processor for which it is issued.

(5) Inspection. A legible copy of a valid FPP issued under this paragraph (f) must be on site at the shoreside processor, SFP, or CQE floating processor at all times and must be presented for inspection upon the request of any authorized officer.

* * * * *

(g) * * *

(1) * * *

(ii) A scallop LLP license may be voluntarily surrendered in accordance with paragraph (a)(9) of this section. A surrendered scallop LLP license will cease to exist and will not be subsequently reissued.

* * * * *

(k) * * *

(6) * * *

(x) Surrender of groundfish or crab LLP. A groundfish or crab LLP license may be voluntarily surrendered in accordance with paragraph (a)(9) of this section. A surrendered groundfish or crab LLP license will cease to exist and will not be subsequently reissued.

* * * * *

(l) * * *

(5) * * *

(ii) Surrender of permit. An AFA inshore processor permit may be voluntarily surrendered in accordance with paragraph (a)(9) of this section. The AFA inshore processor permit will not be reissued in the same fishing year in which it was surrendered, but may be reapplied for and if approved, reissued to the permit holder of record in a subsequent fishing year.

* * * * *

3. In § 679.7, revise paragraphs (a)(1), (a)(7)(i), and (a)(15) to read as follows:

§ 679.7 Prohibitions.

* * * * *

(a) * * *

(1) Federal Fisheries Permit (FFP). (i) Fish for groundfish in the BSAI or GOA with a vessel of the United States that does not have on board a legible copy of a valid FFP issued under § 679.4.

(ii) Conduct directed fishing for Atka mackerel, Pacific cod, or pollock with pot, hook- and-line, or trawl gear from a vessel of the United States that does not have on board a legible copy of a valid FFP issued under § 679.4 and endorsed for Atka mackerel, Pacific cod, or pollock under § 679.4(b).

* * * * *

(7) Inshore/offshore. (i) Operate a vessel in the “inshore component in the GOA” as defined in § 679.2 without a valid Inshore Processing endorsement on the vessel's FFP or FPP.

* * * * *

(15) Federal processor permit (FPP). (i) Receive, purchase or arrange for purchase, discard, or process groundfish harvested in the GOA or BSAI by a shoreside processor or SFP and in the Western and Central GOA regulatory areas, including Federal reporting areas 610, 620, and 630, that does not have on site a legible copy of a valid FPP issued pursuant to § 679.4(f).

(ii) Receive, purchase or arrange for purchase, discard, or process groundfish harvested in the GOA by a CQE floating processor that does not have on site a legible copy of a valid FPP issued pursuant to § 679.4(f).

* * * * *

[FR Doc. 2014-08600 Filed 4-17-14; 8:45 am]

BILLING CODE 3510-22-P